ENVIRONMENTAL PROTECTION AGENCY

[RCRA-2005-0011; FRL-8000-2]

Agency Information Collection Activities; Submission to OMB for Review and Approval; Comment Request; Criteria for Classification of Solid Waste Disposal Facilities and Practices (Renewal), EPA ICR Number 1745.05, OMB Control Number 2050-0154

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on November 30, 2005. Under OMB regulations, the Agency may continue to conduct or sponsor the collection of information while this submission is pending at OMB. This ICR describes the nature of the information collection and its estimated burden and cost.

DATES: Additional comments may be submitted on or before December 23, 2005.

ADDRESSES: Submit your comments, referencing docket ID number RCRA-2005-0011, to (1) EPA online using EDOCKET (our preferred method), by e-mail to rcra-docket@epa.gov, or by mail to: EPA Docket Center, Environmental Protection Agency, Mail Code 5303T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Craig Dufficy, Municipal and Industrial Solid Waste Division of the Office of Solid Waste, Mail Code 5306W, U.S. Environmental Protection Agency, 1200 Pennsylvania Ave., NW., Washington, DC 20460; telephone number: 703-308-9037; fax number: 703-308-8686; e-mail address: dufficy.craig@epa.gov.

SUPPLEMENTARY INFORMATION: EPA has submitted the following ICR to OMB for review and approval according to the procedures prescribed in 5 CFR 1320.12. On July 21, 2005 (70 FR 42061), EPA sought comments on this ICR pursuant to 5 CFR 1320.8(d). EPA received no comments.

EPA has established a public docket for this ICR under Docket ID No. RCRA-2005-0011, which is available for public viewing at the Office of Solid Waste and Emergency Response (OSWER) Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the OSWER Docket is (202) 566-0270. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Title: Criteria for Classification of Solid Waste Disposal Facilities and Practices (Renewal).

Abstract: In order to effectively implement and enforce final changes to 40 CFR part 257, subpart B on a State level, owners/operators of construction and demolition waste landfills that receive conditionally exempt small quantity generator hazardous wastes will have to comply with the final reporting and recordkeeping requirements. An agency may not conduct or sponsor, and a person is not required to respond to, a collection of information unless it displays a currently valid OMB control number. The OMB control number for EPA's regulations are listed in 40 CFR part 9 and 48 CFR chapter 15. This continuing ICR documents the recordkeeping and reporting burdens associated with the location and ground-water monitoring provisions contained in 40 CFR part 257, subpart B.

The information consists of facility operating records about any Location Restrictions such as Floodplains or Wetlands as specified in Sections 257.8-257.9. In some cases waste disposal units may demonstrate that there is no potential for migration of hazardous constituents from the unit. Where the facility is small, arid, or remote, it may use alternative techniques such as placing documentation in the operating record to show that it has met the criteria.

In cases where there is no such exemption, affected facilities will establish Ground-Water Monitoring Systems, Detection Monitoring Programs, and Assessment of such programs. These requirements range from one-time recordkeeping and/or reporting to annual reporting. Where a facility believes that the Assessment has produced a False Positive, it may demonstrate that by means of annual reporting. Where needed, Corrective Actions include reports and operating records about Selection and Implementation of Remedies.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 74 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Construction and demolition waste landfill owners/operators and State Agencies.

Estimated Number of Respondents: 183.

Frequency of Response: On occasion.

Estimated Total Annual Hour Burden: 13,581 hours.

Estimated Total Annual Cost: $1,577,659, which includes $640,967 annualized capital expense, $936,692 O&M costs, and $471,724 Labor costs for Respondents and States.

Changes in the Estimates: There is a increase of 3,906 hours in the total estimated burden currently identified in the OMB Inventory of Approved ICR Burdens. This increase is due to the increase in the number of new construction & demolition waste disposal facilities that has occurred since the last renewal during the period of time from December 1, 2002 until November 30, 2005.

Dated: November 15, 2005.
Joseph A. Sierra,
Acting Director, Collection Strategies Division.

[FR Doc. 05-23217 Filed 11-22-05; 8:45 am]

BILLING CODE 6560-50-P